DEPARTMENT OF COMMERCE

International Trade Administration

[A-570-056, A-552-821]

Certain Tool Chests and Cabinets From the People's Republic of China and the Socialist Republic of Vietnam: Postponements of Preliminary Determinations of Antidumping Duty Investigations

AGENCY: Enforcement and Compliance, International Trade Administration, Department of Commerce.

DATES: Applicable August 21, 2017.

FOR FURTHER INFORMATION CONTACT: Yang Jin Chun (People's Republic of China) or Dmitry Vladimirov (Socialist Republic of Vietnam), AD/CVD Operations Office I, Enforcement and Compliance, International Trade Administration, U.S. Department of Commerce, 1401 Constitution Avenue NW., Washington, DC 20230; telephone: (202) 482-5760 and (202) 482-0665, respectively.

SUPPLEMENTARY INFORMATION:

Background

On May 1, 2017, the Department of Commerce (the Department) initiated the antidumping duty investigations on certain tool chests and cabinets from the People's Republic of China and the Socialist Republic of Vietnam.¹ The Initiation Notice stated that the Department would issue its preliminary determinations for these investigations no later than 140 days after the date of the initiation in accordance with section 733(b)(1)(A) of the Tariff Act of 1930, as amended (the Act), and 19 CFR 351.205(b)(1), unless postponed.² Currently, the preliminary determinations of these investigations are due no later than September 18, 2017.

¹ See Certain Tool Chests and Cabinets from the People's Republic of China and the Socialist Republic of Vietnam: Initiation of Less-Than-Fair-Value Investigations, 82 FR 21523 (May 9, 2017) (Initiation Notice).

² Id. at 21527.

Period of Investigation

The period of investigation is October 1, 2016, through March 31, 2017.

Postponements of Preliminary Determinations

Section 733(c)(1)(A) of the Act permits the Department to postpone the time limit for the preliminary determination if it receives a timely request from the petitioner for postponement. The Department may postpone the preliminary determination under section 733(c)(1) of the Act to no later than 190 days after the date on which the administering authority initiates an investigation.

On August 9, 2017, the petitioner, Waterloo Industries Inc., made a timely request under 19 CFR 351.205(e) for a 50-day postponement of the preliminary determinations of these investigations.³ The petitioner states that the postponements are necessary given the need for additional time to analyze responses from the selected respondents in these investigations.⁴ For the reasons stated above, and because there are no compelling reasons to deny the petitioner's request, the Department is postponing the preliminary determinations of these investigations in accordance with section 733(c)(1)(A) of the Act and 19 CFR 351.205(b)(2) and (e) to November 7, 2017. In accordance with section 735(a)(1) of the Act and 19 CFR 351.210(b)(1), the deadline for the final determinations of these investigations will continue to be 75 days after the date of the preliminary determinations, unless postponed.

³ See the Letters, “Antidumping Investigation of Certain Tool Chests and Cabinets from the People's Republic of China—Petitioner's Request for Postponement of the Preliminary Determination” dated August 9, 2017, and “Antidumping Investigation of Certain Tool Chests and Cabinets from the Socialist Republic of Vietnam—Petitioner's Request for Postponement of the Preliminary Determination” dated August 9, 2017.

⁴ Id.

This notice is issued and published pursuant to section 733(c)(2) of the Act and 19 CFR 351.205(f)(1).

Dated: August 15, 2017.
Gary Taverman,
Deputy Assistant Secretary for Antidumping and Countervailing Duty Operations, performing the non‐exclusive functions and duties of the Assistant Secretary for Enforcement and Compliance.

[FR Doc. 2017-17628 Filed 8-18-17; 8:45 am]

BILLING CODE 3510-DS-P